DEPARTMENT OF COMMERCE

Foreign-Trade Zones Board

[Docket 52-2007)]

Foreign-Trade Zone 202—Los Angeles, California, Area Application for Reorganization/Expansion

An application has been submitted to the Foreign-Trade Zones (FTZ) Board (the Board) by the Board of Harbor Commissioners of the City of Los Angeles, grantee of FTZ 202, requesting authority to reorganize and expand its zone in the Los Angeles area, adjacent to the Los Angeles-Long Beach Customs port of entry. The application was submitted pursuant to the provisions of the Foreign-Trade Zones Act, as amended (19 U.S.C. 81a-81u), and the regulations of the Board (15 CFR part 400). It was formally filed on December 19, 2007.

FTZ 202 was approved on July 14, 1994 (Board Order 693, 59 FR 37464, 7/22/94), expanded on August 26, 1996 (Board Order 842, 61 FR 46763, 9/5/96) and on July 9, 1999 (Board Order 1043, 64 FR 38887, 7/20/99), and expanded/reorganized on April 30, 2004 (Board Order 1331, 69 FR 26065, 5/11/04). The zone project currently consists of 22 sites (5,704 acres) and a temporary site (10 acres) located at port facilities, industrial parks and warehouse facilities in Los Angeles, San Bernardino, Kern and Riverside Counties. (An expansion application is currently pending (Doc. 44-2006) to include a site (177 acres, Proposed Site 23) within the Tejon Industrial Complex in Lebec.)

The applicant is now requesting authority to reorganize and expand its zone project as follows. The changes will result in an overall net decrease of 329.25 acres in zone acreage.

Site 4 (Dominguez Technology Center)—Remove 35.4 acres (10 parcels) within the site due to changed circumstances (new site total—353.60 acres);

Site 5 (located at 300 W. Artesia Boulevard, Compton)—Remove the entire site from the zone project due to changed circumstances;

New Proposed Site 5 (8.51 acres, 2 parcels)—two warehouse facilities of 3Plus Logistics located at 20250 South Alameda Street in Rancho Dominguez (6.13 acres) and at 2730 El Presidio Street in Carson (2.38 acres);

Site 8 (located within Watson Industrial Center South, 1031/1035 Watson Center Road, Carson)—Combine Site 8 and Site 10 (Watson Industrial Center South) to become Site 10 (new site total—325 acres);

Site 9 (Harbor Gateway Industrial Area)—Expand the site to include Temporary Site 1 (10 acres) and include an additional 5.61 acres (Parcel A—15.61 acres); expand to include an additional parcel at 1451 Knox Street in Torrance (Parcel C—7.26 acres); and, rename existing Site 9 as Parcel B (7 acres) (new site total—29.87 acres);

Site 11 (Watson Corporate Center)—Expand the site to include an additional 46.79 acres (3 contiguous parcels) located at 2417 East Carson Street in Carson (new site total—153.79 acres);

Site 16 (Artesia Corridor Commerce Park)—Remove 9.8 acres within the site located at 1700 S. Wilmington Avenue, 1401 W. Walnut Street and 1805 S. Wilmington Street in Compton due to changed circumstances (new total—153.20 acres);

Site 19 (Chino South Business Park)—Remove 6.34 acres within the site located at 15982 San Antonio Avenue in Chino due to changed circumstances; and, expand the site to include an additional parcel (18.5 acres) located at 6711 Bickmore Avenue in Chino (new site total—83.16 acres); and,

Site 20 (Park Mira Loma West)—Remove 340.73 acres (11 parcels) within the site due to changed circumstances (new site total—284.15 acres).

In accordance with the Board's regulations, a member of the FTZ Staff has been designated examiner to investigate the application and report to the Board.

Public comment is invited from interested parties. Submissions (original and 3 copies) shall be addressed to the Board's Executive Secretary at the address below. The closing period for their receipt is March 10, 2008. Rebuttal comments in response to material submitted during the foregoing period may be submitted during the subsequent 15-day period to March 24, 2008.

A copy of the application and accompanying exhibits will be available for public inspection at each of the following locations: U.S. Department of Commerce, Export Assistance Center, 11150 West Olympic Boulevard, Suite 975, Los Angeles, CA 90064; and, Office of the Executive Secretary, Foreign-Trade Zones Board, Room 2111, U.S. Department of Commerce, 1401 Constitution Avenue, NW., Washington, DC 20230.

For further information, contact Camille Evans at Camille_Evans@ita.doc.gov or (202) 482-2350.

Dated: December 20, 2007.
Andrew McGilvray,
Executive Secretary.

[FR Doc. E8-113 Filed 1-7-08; 8:45 am]

BILLING CODE 3510-DS-P